DEPARTMENT OF THE INTERIOR

Bureau of Land Management

43 CFR Part 2560

[WO-350-1410-00-24 1A]

RIN 1004-AD34

Alaska Native Veterans Allotments

AGENCY: Bureau of Land Management, Interior.

ACTION: Final rule.

SUMMARY: This document amends the final regulations published in the Federal Register on Friday, June 30, 2000 (65 FR 16648). The regulation allows certain Alaska Native veterans another opportunity to apply for a Native allotment under the repealed Native Allotment Act of 1906. Congress passed the Alaska Native Veterans Allotment Act in 1998 which mandates regulations to implement it. This action will enable certain Alaska Native veterans who, because of their military service, were not able to apply for an allotment during the early 1970s, to do so now.

EFFECTIVE DATE: This rule is effective on November 15, 2001.

ADDRESSES: You may send inquiries or suggestions to: Director (630), Bureau of Land Management, 1849 C Street, NW., Washington, DC 20240.

FOR FURTHER INFORMATION CONTACT: Connie Van Horn, Division of Conveyance Management, Bureau of Land Management, 222 West Seventh Avenue, #13, Anchorage, Alaska 99513-7599; telephone (907) 271-3767; or Kelly Odom, Bureau of Land Management, Regulatory Affairs Group, Mail Stop 401, 1620 L Street, NW., Washington, DC 20036; telephone (202) 452-5028. To reach Ms. Van Horn or Ms. Odom, individuals who use a telecommunications device for the deaf (TDD) may call the Federal Information Relay Service at 1-800-877-8339, 24 hours a day, seven days a week.

SUPPLEMENTARY INFORMATION:

I. Statutory Authority.

II. Final Rule as Adopted.

III. Procedural Matters.

I. Statutory Authority

Public Law 106-559 signed by the President on December 21, 2000 amends the Alaska Native Allotment Act of 1998. It:

a. Changes the dates of military service under which an Alaska Native Veteran may be eligible for an allotment by extending the ending date for completing the required six months of military service from June 2, 1971, to December 31, 1971;

b. Extends the dates of military service under which a deceased Alaska Native Veteran may be eligible for an allotment from the original period beginning January 1, 1969, and ending December 31, 1971, to the period beginning August 5, 1964, and ending December 31, 1971;

c. Clarifies that a deceased Alaska Native Veteran must have served in South East Asia during the 1964-1971 time period; and

d. Clarifies that the appropriate Alaska State court must appoint personal representatives to represent deceased eligible veterans.

II. Final Rule as Adopted

We are issuing this final rule because the purpose of the rule is to provide the public with the information concerning changes to previous law which were made in Public Law 106-559. The changes made are specific and allow BLM no discretion. Therefore, public comment on a proposed rule would not be in the public interest; rather comment would delay the fuller, complete, and clear public disclosure we seek.

This final rule follows the changes in Public Law 106-559 by:

(a) Changing the dates of military service under which an Alaska Native Veteran may be eligible for an allotment by extending the ending date for completing the required six months of military service from June 2, 1971, to December 31, 1971;

(b) Extending the dates of military service under which a deceased Alaska Native Veteran may be eligible for an allotment from the original period beginning January 1, 1969, and ending December 31, 1971, to the period beginning August 5, 1964, and ending December 31, 1971;

(c) Clarifying that a deceased Alaska Native Veteran must have served in South East Asia during the 1964-1971 time period and;

(d) Clarifying that the appropriate Alaska State court must appoint personal representatives to represent deceased eligible veterans.

The rule also deletes § 2568.92, Is there anything else I should consider if I apply for land that is selected by a Native Corporation or by the State of Alaska? The last sentence of the Section stated “If BLM does not receive and approve a relinquishment from a Native corporation or the State before the allotment application filing period ends, you cannot file an application for an allotment in a different location and you will not be eligible for an alternative allotment.” It is true that an applicant would not be able to file a new application in a different location once the filing period ends, but it is not true that an applicant would not be eligible for an alternative allotment. If an applicant is found eligible for an alternative allotment, that eligibility would have nothing to do with the end of the filing period. This section was intended to be a warning of possible risk to applicants, not a statement of a requirement. We have determined that deleting the section, rather than rewording it, is in the public interest. We determined this after considering alternative language which we found would add confusion rather than clarity to the rulemaking.

III. Procedural Matters

Executive Order 12866, Regulatory Planning and Review

These final regulations are not a significant regulatory action and were not subject to review by the Office of Management and Budget under Executive Order 12866. These final regulations will not have an effect of $100 million or more on the economy. They will not adversely affect in a material way the economy, productivity, competition, jobs, the environment, public health or safety, of State, local, or tribal governments of communities. These final regulations will not create a serious inconsistency or otherwise interfere with an action taken or planned by another agency. These final regulations do not alter the budgetary effects of entitlements, grants, user fees, or loan programs or the rights or obligations of their recipients; nor do they raise novel legal or policy issues. The effect of these final regulations will be on a limited number of individuals who are qualified to apply for allotments and on the Interior Department agencies responsible for administering the allotment program. The allotment application period is limited by law to 18 months, and existing staff of responsible agencies will process applications following most of the same rules that are currently in effect for allotment applications under the 1906 Native Allotment Act.

National Environmental Policy Act (NEPA)

Section 910 of the Alaska National Interest Lands Conservation Act (ANILCA) of December 2, 1980, 43 U.S.C. 1638, made conveyances, regulations, and other actions which lead to the issuance of conveyances to Natives under ANCSA exempt from NEPA compliance requirements. Since Congress made the Alaska Native Veterans Allotment Act a part of ANCSA, NEPA does not apply.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. This final rule will apply only to certain Alaska Native veterans and specific classes of heirs of Alaskan Native veterans who are eligible to apply for allotments. Therefore, the Department of the Interior certifies that this document will not have any significant impacts on small entities under the RFA.

Small Business Regulatory Enforcement Fairness Act (SBREFA)

These final regulations are not a “major rule” as defined at 5 U.S.C. 804(2). This final rule does not meet any of the criteria for a “major rule” under the definition contained in SBREFA. The final rule will result in some costs to allotment applicants, and to the Department of the Interior to implement the allotment program over the next several years. It will not result in major cost or price increases for consumers, industries, or regions, and the cost increases for government agencies will be small. This final rule will have no significant adverse effects on competition, employment, investment, productivity, innovation, or the ability of U.S.-based enterprises to compete with foreign-based enterprises. The total annual effect on the economy will be far below $100 million. Based on Department of Veterans Affairs data, BLM estimates that about 1,100 individuals with at least one quarter Alaska Native blood meet the military service criteria in the Alaska Native Veterans law and may be eligible to apply for allotments. If each applicant were to choose the maximum number of land parcels involved would be 2,200. BLM estimates the cost of processing an application for a single allotment parcel does not exceed $25,000, including the cost of adjudication, examination, survey, and conveyance. This estimate is based on the average cost of processing allotment applications originally filed under the Alaska Native Allotment Act of 1906. The total cost to process 2,200 parcels would be $55 million over the life of the program, which is the statutory 18-month application period and as many additional years as necessary to complete all applications. In no case would these costs approximate the $100 million annual impact threshold.

Unfunded Mandates Reform Act

These final regulations do not impose an unfunded mandate on State, local, or tribal governments or the private sector of more than $100 million per year; nor do these final regulations have a significant or unique effect on State, local, or tribal governments or the private sector. The only mandate imposed on State governments will be for the State court appointment of personal representatives in cases involving the estates of certain deceased applicants, but this mandate will cost far below $100 million per year. These final regulations impose no mandate on local or tribal governments or the private sector. Program costs will fall primarily on the Department of the Interior. Therefore, BLM is not required to prepare a statement containing the information required by the Unfunded Mandates Reform Act (2 U.S.C. 1531 et seq.).

Executive Order 12630, Governmental Actions and Interference With Constitutionally Protected Property Rights (Takings)

The final rule does not represent a government action capable of interfering with constitutionally protected property rights. The final rule will allow BLM to convey Federal land only under certain circumstances, and the land containing other applications or entries is specifically forbidden by law from being conveyed to Native veterans. Even if a Native veteran could show use and occupancy of land before another application or entry was made, the Native would have no vested property right until he or she filed an application for an allotment under section 41 of ANCSA. No existing applications or entries or other private property interest will be affected by this proposed rule. Therefore, the Department of the Interior has determined that the rule will not cause a taking of private property or require further discussion of takings implications under this Executive Order.

Executive Order 13132, Federalism

The final rule will not have a substantial direct effect on the States, on the relationship between the national government and the States, or on the distribution of power and responsibilities among the various levels of government. The final rule will give the State the authority to voluntarily relinquish up to 160 acres of a selection so that a Native veteran can apply for an allotment, but the State is not required to relinquish. Voluntarily relinquishments will have no effect on the State's ability to reach its full acreage entitlement from the Federal government. Native veterans will not be able to apply for land already owned by the State, even if they can show that they used and occupied the land before the State applied for it. Allotments conveyed under section 41 of ANCSA are not taxable, just as allotments conveyed under the 1906 Act are not taxable. Native allotments are conveyed from Federal public land which is not subject to State or local taxation, so conveyance of allotments under this rule will not change tax status or cause any impact on State or local property tax revenue. Therefore, in accordance with Executive Order 12612, BLM has determined that this final rule does not have sufficient Federalism implications to warrant preparation of a Federalism Assessment. Representatives of the State of Alaska and the BLM Alaska have had general discussions on the content of the statute and the final regulations. Representatives of the State of Alaska recognize that lands conveyed to the State are prohibited from land availability under the statute and that the State may relinquish, but is not required to relinquish, a selection to allow a Native veteran to file an allotment application.

Executive Order 12988, Civil Justice Reform

Under Executive Order 12988, the Office of the Solicitor has determined that this final rule would not unduly burden the judicial system and that it meets the requirements of sections 3(a) and 3(b)(2) of the Order.

Executive Order 13175, Consultation and Coordination With Indian Tribal Governments

In accordance with the President's memorandum of April 29, 1994, “Government-to-Government Relations with Native American Tribal Governments” (59 FR 22951) and 512 DM 2 when we initially wrote this rule we consulted with tribes as follows:

Section 41 of ANCSA, which authorizes Native allotments for certain veterans, specifically requires that the Department of the Interior promulgate these regulations “after consultation with Alaska Natives groups.” BLM consulted with the Bureau of Indian Affairs throughout the process of the initial rulemaking and held public meetings to discuss the rule with Native entities, including tribes. Native views were solicited very early in the rulemaking process and BLM included all written comments received from tribes and other Native entities in the administrative record for the rule. BLM held additional meetings with Native groups before the regulations became final and considered tribal and other Native views in the final rulemaking. Accordingly:

a. We consulted with affected tribes.

b. Consultations were open and candid so that the affected tribes could fully evaluate the potential impact of the rule on trust resources.

c. We considered tribal views in the final rulemaking.

d. We consulted with the appropriate bureaus and offices of the Department about the potential effects of the rule on tribes. We consulted with the Bureau of Indian Affairs and the Division of Indian Affairs, Office of the Solicitor.

Paperwork Reduction Act

This final rule contains information collection requirements covered under the provisions of the Paperwork Reduction Act of 1995, 44 U.S.C. 3501 et seq. All information requirements pertain to an application form whereby Alaska veterans may apply for the benefits described in this final rule. OMB reviewed and approved an information collection package (1004-0191) for the application form (AK 2561-10). Because all the information requirements are contained in the application form and covered by that information collection package, BLM has not prepared a separate information collection package for these regulations.

Executive Order 13211, Actions Concerning Regulations That Significantly Affect Energy Supply Distribution, or Use

This rule is not a significant energy action. It will not have an adverse effect on energy supplies. This final rule will apply only to Alaska Native veterans and to a specific class of Alaskan Native veteran's heir who are eligible to apply for allotments.

Author

The principal author of this rule is Connie Van Horn, Division of Conveyance Management, Bureau of Land Management, Anchorage, Alaska; assisted by Kelly Odom of BLM's Regulatory Affairs Group, Bureau of Land Management, Washington, DC.

List of Subjects in 43 CFR Part 2560

Alaska, Homesteads, Indian Lands, Public Lands, Public Lands-Sale, and Reporting and Recordkeeping requirements, Alaska Native allotments for certain veterans.

Dated: September 28, 2001.
J. Steven Griles,
Acting Assistant Secretary, Land and Minerals Management.

PART 2560—ALASKA OCCUPANCY AND USE

Accordingly, BLM amends 43 CFR part 2560 as set forth below:

1. The authority citation for part 2560 is revised to read as follows:

Authority: 43 U.S.C. 1601 et seq. (ANCSA), as amended; Section 432 of Public Law 105-276, 43 U.S.C. 1629g; Section 301 of Public Law 106-559; the Native Allotment Act of 1906, 34 Stat. 197, as amended, 42 Stat. 415, 70 Stat. 954, 43 U.S.C. 270-1 through 270-3 (1970).

2. Amend § 2568.20 by revising paragraph (b); redesignating paragraphs (c) as paragraph (d); and adding a new paragraph (c) to read as follows:

§ 2568.20 What is the legal authority for these allotments?

* * * * *

(b) Section 432 of Public Law 105-276, the Appropriations Act for the Departments of Veterans Affairs and Housing and Urban Development for fiscal year 1999, 43 U.S.C. 1629g, which amended ANCSA by adding section 41.

(c) Section 301 of Public Law 106-559, the Indian Tribal Justice Technical and Legal Assistance Act of 2000, which amended section 41 of ANCSA.

(d) The Native Allotment Act of 1906, 34 Stat. 197, as amended, 42 Stat. 415 and 70 Stat. 954, 43 U.S.C. 270-1 through 270-3 (1970).

3. Amend § 2568.50 by revising paragraph (c) to read as follows:

§ 2568.50 What qualifications do I need to be eligible for an allotment?

* * * * *

(c) Be a veteran who served at least six months between January 1, 1969, and December 31, 1971, or enlisted or was drafted after June 2, 1971, but before December 3, 1971; and

* * * * *

4. Amend § 2568.60 by revising the introductory paragraph to read as follows:

§ 2568.60 May the personal representatives of eligible deceased veterans apply on their behalf?

Yes. The personal representative or special administrator, appointed in the appropriate Alaska State court proceeding, may apply for an allotment for the benefit of a deceased veteran's heirs if the deceased veteran served in South East Asia at any time during the period beginning August 5, 1964, and ending December 31, 1971, and during that period the deceased veteran:

* * * * *

§ 2568.92 [Removed and Reserved]

5. Remove and reserve § 2568.92.

[FR Doc. 01-25937 Filed 10-15-01; 8:45 am]

BILLING CODE 4310-84-P